DEPARTMENT OF HOMELAND SECURITY

U.S. Citizenship and Immigration Services

[CIS No. 2795-25; DHS Docket No. USCIS-2022-0003]

RIN 1615-ZB91

Extension of the Designation of Ukraine for Temporary Protected Status

AGENCY: U.S. Citizenship and Immigration Services (USCIS), Department of Homeland Security (DHS).

ACTION: Notice of Temporary Protected Status (TPS) extension.

SUMMARY: Through this notice, the Department of Homeland Security (DHS) announces that the Secretary of Homeland Security (Secretary) is extending the designation of Ukraine for Temporary Protected Status (TPS) for 18 months, beginning on April 20, 2025, and ending on October 19, 2026. Existing TPS beneficiaries who wish to extend their status through October 19, 2026, must re-register during the 60-day re-registration period described in this notice.

DATES: Extension of Designation of Ukraine for TPS begins on April 20, 2025, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Ukraine's TPS designation by selecting “Ukraine” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You can also find more information at local USCIS offices, listed on the USCIS website at https://www.uscis.gov/about-us/find-a-uscis-office, after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Documents, Parole Documents, and Arrival/Departure Records

Form I-765—Application for Employment Authorization

Form I-797—Notice of Action (Approval Notice)

Form I-797C—Notice of Action (Receipt Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

PDF—Portable Document Format

SAVE—USCIS Systematic Alien Verification for Entitlements Program

Secretary—Secretary of Homeland Security

TPS—Temporary Protected Status

TTY—Text Telephone

USCIS—U.S. Citizenship and Immigration Services

U.S.C.—United States Code

Registration Information

Extension of Designation of Ukraine for TPS: The 18-month extension of Ukraine's TPS designation begins on April 20, 2025, and will remain in effect for 18 months, ending on October 19, 2026. The extension allows existing TPS beneficiaries to retain TPS through October 19, 2026, if they otherwise continue to meet the eligibility requirements for TPS. Existing TPS beneficiaries who wish to extend their status through October 19, 2026, must re-register during the 60-day re-registration period described in this notice.

Re-registration: The 60-day re-registration period for existing beneficiaries runs from January 17, 2025, through March 18, 2025. (Note: It is important for re-registrants to timely re-register during the re-registration period and not to wait until their Employment Authorization Documents (EADs) expire, as delaying re-registration could result in gaps in their employment authorization documentation.)

Purpose of this Action (TPS)

Through this notice, DHS sets forth procedures necessary for nationals of Ukraine (or individuals having no nationality who last habitually resided in Ukraine) to re-register for TPS and apply to renew their EAD with USCIS.

Re-registration is limited to individuals who have previously registered for TPS under the prior designation of Ukraine and whose applications have been granted. If you do not re-register properly within the 60-day re-registration period, USCIS may withdraw your TPS following appropriate procedures. See 8 CFR 244.14.

For individuals who have already been granted TPS under Ukraine's designation, the 60-day re-registration period runs from January 17, 2025, through March 18, 2025. USCIS will issue new EADs with an October 19, 2026, expiration date to eligible beneficiaries granted TPS under Ukraine's designation who timely re-register and apply for EADs. Given the time frames involved with processing TPS re-registration applications, DHS recognizes that not all re-registrants may receive a new EAD before their current EAD expires. Accordingly, through this Federal Register notice, DHS automatically extends through April 19, 2026, the validity of certain EADs previously issued under the TPS designation of Ukraine. As proof of continued employment authorization through April 19, 2026, TPS beneficiaries can show their EAD with the notation A12 or C19 under Category and a “Card Expires” date of April 19, 2025 or October 19, 2023. This notice explains how TPS beneficiaries and their employers may determine if an EAD is automatically extended and how this affects the Form I-9, Employment Eligibility Verification, E-Verify, and USCIS Systematic Alien Verification for Entitlements (SAVE) processes.

Individuals who have an Application for Temporary Protected Status (Form I-821) for Ukraine or TPS-related Application for Employment Authorization (Form I-765) that was still pending as of January 17, 2025, do not need to file either application again. If USCIS approves an individual's pending Form I-821, USCIS will grant the individual TPS through October 19, 2026. Similarly, if USCIS approves a pending TPS-related Form I-765, USCIS will issue the individual a new EAD that will be valid through the same date.

What Is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, are authorized to work, and may obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date TPS terminates.

When was Ukraine designated for TPS?

Ukraine was initially designated on April 19, 2022 on the basis of ongoing armed conflict and extraordinary and temporary conditions in Ukraine that prevented nationals of Ukraine from returning in safety. See Designation of Ukraine for Temporary Protected Status, 87 FR 23211 (Apr. 19, 2022). Following the initial designation, TPS for Ukraine was extended and redesignated based on ongoing armed conflict and extraordinary and temporary conditions from October 20, 2023, through April 19, 2025. See Extension and Redesignation of Ukraine for Temporary Protected Status, 88 FR 56872 (Aug. 21, 2023).

What authority does the Secretary have to extend the designation of Ukraine for TPS?

Section 244(b)(1) of the INA, 8 U.S.C. 1254a(b)(1), authorizes the Secretary, after consultation with appropriate agencies of the U.S. Government, to designate a foreign state (or part thereof) for TPS if the Secretary determines that certain country conditions exist.¹ The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

¹ INA section 244(b)(1) ascribes this power to the Attorney General. Congress transferred this authority from the Attorney General to the Secretary of Homeland Security. See Homeland Security Act of 2002, Pub. L. 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the conditions in the foreign state continue to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

Why is the Secretary extending the TPS designation for Ukraine through October 19, 2026?

DHS has reviewed country conditions in Ukraine. Based on the review, including input received from Department of State (DoS) and other U.S. Government agencies, the Secretary has determined that an 18-month TPS extension is warranted because ongoing armed conflict and extraordinary and temporary conditions supporting Ukraine's TPS designation remain.

Overview

Ukraine is in its third year of war with Russia, which has involved large-scale attacks on major cities and has resulted in increased civilian casualties and significant damage and destruction to critical infrastructure.² The humanitarian suffering is widespread with increased poverty levels and humanitarian assistance needs.³ Access to social infrastructure, such as schools and healthcare facilities, also remain an issue because of attacks that result in damage or destruction to infrastructure.⁴

² Office for Democratic Institutions and Human Rights (ODIHR), Fifth Interim Report on reported violations of international humanitarian law and international human rights law in Ukraine, July 22, 2024, 4, available at https://www.osce.org/files/f/documents/a/e/573346_1.pdf.

³ See UNOCHA, Ukraine: Projected situation, available at https://www.unocha.org/ukraine (last visited Oct. 28, 2024).

⁴ The World Health Organization, Surveillance System for Attacks on Health Care SSA, available at https://extranet.who.int/ssa/Index.aspx (last visited Oct. 28, 2024); Human Rights Watch, “Tanks on the playground,” Attacks on schools and military use of schools in Ukraine, Nov. 9, 2023, available at https://www.hrw.org/report/2023/11/09/tanks-playground/attacks-schools-and-military-use-schools-ukraine (last visited Oct. 28, 2024).

Armed Conflict and Civilian Casualties

Since February 24, 2022, Russia has been conducting a full-scale invasion of Ukraine.⁵ Russia's missile and drone strikes continue to hit Ukraine's population centers and critical infrastructure.⁶ In 2024, Russian armed forces intensified their coordinated large-scale attacks on major Ukrainian cities, regardless of whether the city was near the frontline.⁷ Since the end of March 2024, Russian armed forces have been attacking energy related infrastructure across Ukraine, damaging and destroying power generation facilities and electricity substations.⁸ The consequences include civilian casualties and interrupted access to electricity, gas and water.⁹ Russian forces have also increased their attacks on the Dnipro Dam and the Ukrainian railway system.¹⁰ The U.N. Office of the High Commissioner for Human Rights (OHCHR) reports that since February 24, 2022, 11,743 civilians have been killed and 24,614 civilians have been injured from conflict-related violence, as of August 31, 2024.¹¹ The July 8, 2024 large-scale attack across Ukraine made July 2024 the deadliest month for civilians since October 2022.¹²

⁵ Center for Preventive Action, War In Ukraine, Oct. 16, 2024, available at https://www.cfr.org/global-conflict-tracker/conflict/conflict-ukraine (last visited Oct. 30, 2024).

⁶ U.S. Department of State, 2023 Country Reports on Human Rights Practices: Ukraine, Apr. 22, 2024, available at https://www.state.gov/reports/2023-country-reports-on-human-rights-practices/ukraine/ (last visited Oct. 25, 2024).

⁷ Office for Democratic Institutions and Human Rights (ODIHR), Fifth Interim Report on reported violations of international humanitarian law and international human rights law in Ukraine, July 22, 2024, 8, available at https://www.osce.org/files/f/documents/a/e/573346_1.pdf.

⁸ Office for Democratic Institutions and Human Rights (ODIHR), Fifth Interim Report on reported violations of international humanitarian law and international human rights law in Ukraine, July 22, 2024, 10, available at https://www.osce.org/files/f/documents/a/e/573346_1.pdf.

⁹ Office for Democratic Institutions and Human Rights (ODIHR), Fifth Interim Report on reported violations of international humanitarian law and international human rights law in Ukraine, July 22, 2024, 10, available at https://www.osce.org/files/f/documents/a/e/573346_1.pdf.

¹⁰ Office for Democratic Institutions and Human Rights (ODIHR), Fifth Interim Report on reported violations of international humanitarian law and international human rights law in Ukraine, July 22, 2024, 10, available at https://www.osce.org/files/f/documents/a/e/573346_1.pdf.

¹¹ OHCHR, Ukraine: Worsening impact on civilians of Russia's attack, torture of prisoners of war, Oct. 1, 2024, 17, available at https://www.ohchr.org/en/press-briefing-notes/2024/10/ukraine-worsening-impact-civilians-russias-attack-torture-prisoners (last visited Oct. 25, 2024).

¹² OHCHR, Treatment of Prisoners of War and Update on the Human Rights Situation in Ukraine, 1 June 2024-31 August 2024, Oct. 1, 2024, 18, available at https://www.ohchr.org/sites/default/files/documents/countries/ukraine/2024/Ukraine-OHCHR-40th-periodic-report.pdf.

Humanitarian Situation

The ongoing war has created a humanitarian crisis in Ukraine with over 14.6 million people (about 40% of the Ukrainian population) requiring humanitarian assistance in 2024.¹³ The World Bank reports that over 9 million Ukrainians are living in poverty, which is an increase of 1.8 million people since the full-scale invasion began.¹⁴ In areas close to the front-line, particularly in the south and east, and including Russian occupied territories, the humanitarian situation is dire and growing in severity with over 3.3 million people in need of aid.¹⁵

¹³ See UNOCHA, Ukraine: Projected situation, December 2023, available at https://www.unocha.org/ukraine (last visited Oct. 28, 2024).

¹⁴ The World Bank Group, The World Bank in Ukraine: Overview, last updated Aug. 1, 2024, available at https://www.worldbank.org/en/country/ukraine/overview (last visited Oct. 28, 2024).

¹⁵ UNOCHA, Ukraine: Projected situation, December 2023, available at https://www.unocha.org/ukraine (last visited Oct. 28, 2024).

UNHCR reports that as of October 2024, more than 6.7 million Ukrainians have fled Ukraine and been recorded as refugees across the world,¹⁶ while nearly 3.7 million people are internally displaced as of August 2024.¹⁷ Approximately 90 percent of those fleeing the crisis are women and children, and they are at risk of gender-based violence and sexual exploitation and abuse.¹⁸ Older people account for almost 25 percent of all internationally displaced persons and are struggling to meet their basic needs.¹⁹

¹⁶ UNHCR, Ukraine refugee situation, the Office of the United Nations High Commissioner for Refugees Operational Data Portal, last updated Oct. 15, 2024, available at https://data.unhcr.org/en/situations/ukraine (last visited Oct. 27, 2024).

¹⁷ IOM UN Migration, Global Data Institute Displacement Tracking Matrix, Ukraine, available at http://dtm.iom.int/ukraine (last visited Oct. 28, 2024).

¹⁸ USA for UNHCR, Ukraine emergency, available at https://www.unrefugees.org/emergencies/ukraine/ (last visited Oct. 28, 2024).

¹⁹ Internal Displacement Monitoring Centre, Global report on internal displacement, Apr. 2024, 57, available at https://api.internal-displacement.org/sites/default/files/publications/documents/IDMC-GRID-2024-Global-Report-on-Internal-Displacement.pdf.

Educational and healthcare infrastructure continue to be attacked by Russian forces. Between February 2022 and October 2023, 3,428 educational facilities had been damaged and 365 destroyed.²⁰ As such, Ukrainian children's access to education has been disrupted, and it is projected that repair and reconstruction of schools will take time and require significant resources.²¹ Access to effective health care continues to be severely limited. The World Health Organization's Surveillance System for Attacks on Health Care has confirmed 1,778 attacks on health care facilities in Ukraine since the start of the invasion in 2022.²² Continuous attacks to civilian infrastructure that impact electricity, water and telecommunications, have also affected the country's ability to deliver health-care services and critical public health functions.²³

²⁰ Human Rights Watch, “Tanks on the playground,” Attacks on schools and military use of schools in Ukraine, Nov. 9, 2023, available at https://www.hrw.org/report/2023/11/09/tanks-playground/attacks-schools-and-military-use-schools-ukraine (last visited Oct. 28, 2024).

²¹ Human Rights Watch, “Tanks on the playground,” Attacks on schools and military use of schools in Ukraine, Nov. 9, 2023, available at https://www.hrw.org/report/2023/11/09/tanks-playground/attacks-schools-and-military-use-schools-ukraine (last visited Oct. 28, 2024).

²² The World Health Organization, Surveillance System for Attacks on Health Care SSA, available at https://extranet.who.int/ssa/Index.aspx (last visited Oct. 28, 2024).

²³ The World Health Organization, World Health Organization's Country Cooperation Strategy, Ukraine 2024-2030, Feb. 20, 2024, 7, available at https://www.who.int/publications/i/item/WHO-EURO-2024-9329-49101-73236 (last visited Oct. 28, 2024).

In summary, Russia's unrelenting attacks on Ukraine continue to cause civilian casualties and a worsening humanitarian crisis, from mass displacement to the destruction of critical infrastructure.

Based on this review and after consultation with appropriate U.S. Government agencies, the Secretary has determined that:

• The conditions supporting Ukraine's designation for TPS continue to be met. See INA sec. 244(b)(3)(A) and (C), 8 U.S.C. 1254a(b)(3)(A) and (C).

• There continues to be an ongoing armed conflict in Ukraine and, due to such conflict, requiring the return to Ukraine of Ukrainian nationals (or individuals having no nationality who last habitually resided in Ukraine) would pose a serious threat to their personal safety. See INA sec. 244(b)(1)(A), 8 U.S.C. 1254a(b)(1)(A).

• There continue to be extraordinary and temporary conditions in Ukraine that prevent Ukrainian nationals (or individuals having no nationality who last habitually resided in Ukraine) from returning to Ukraine in safety, and it is not contrary to the national interest of the United States to permit Ukrainian TPS beneficiaries to remain in the United States temporarily. See INA sec. 244(b)(1)(C), 8 U.S.C. 1254a(b)(1)(C).

• The designation of Ukraine for TPS should be extended for an 18-month period, beginning on April 20, 2025, and ending on October 19, 2026. See INA sec. 244(b)(3)(C), 8 U.S.C. 1254a(b)(3)(C).

• There are approximately 103,700 current Ukraine TPS beneficiaries who are eligible to re-register for TPS under the extension.

Notice of the Designation of Ukraine for TPS

By the authority vested in me as Secretary under INA section 244, 8 U.S.C. 1254a, I have determined, after consultation with the appropriate U.S. Government agencies, the statutory conditions supporting Ukraine's designation for TPS on the basis of ongoing armed conflict and extraordinary and temporary conditions are met, and it is not contrary to the national interest of the United States to permit Ukrainian TPS beneficiaries to remain in the United States temporarily. See INA sec. 244(b)(1)(A)(C), 8 U.S.C. 1254a(b)(1) (A)(C). On the basis of this determination, I am extending the existing designation of Ukraine for TPS for 18 months, beginning on April 20, 2025, and ending on October 19, 2026. See INA sec. 244(b)(1) and (b)(2); 8 U.S.C. 1254a(b)(1), and (b)(2).

Alejandro N. Mayorkas,
Secretary, U.S. Department of Homeland Security.

Eligibility and Employment Authorization for TPS

Required Application Forms and Application Fees to Re-Register for TPS:

To re-register for TPS based on the designation of Ukraine, you must submit Form I-821. When filing an application to re-register for TPS, you do not need to pay the application fee; however, you are required to pay the biometric services fee. If you cannot pay the biometric services fee, you may ask USCIS to waive the fee. Please see additional information under the “Biometric Services Fee” section of this notice.

TPS beneficiaries are eligible for an EAD, which proves their authorization to work in the United States. You are not required to submit Form I-765 or have an EAD to be granted TPS, but see below for more information if you want an EAD to use as proof that you can work in the United States.

Individuals who have a Ukraine TPS application (Form I-821) that was still pending as of January 17, 2025, do not need to file the application again. If USCIS approves an individual's Form I-821, USCIS will grant the individual TPS through October 19, 2026.

For more information on the application forms and fees for TPS, please visit the USCIS TPS web page at https://www.uscis.gov/tps. Fees for the Form I-821, the Form I-765, and biometric services are also described in 8 CFR 106.2 and the fee waiver-related regulations in 8 CFR 106.3. In addition, USCIS Form G-1055, Fee Schedule, provides the current fees required for the Form I-821 and Form I-765 for existing TPS beneficiaries who are re-registering.

How Can TPS Beneficiaries Obtain an EAD?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form with their TPS application, or separately later, if their TPS application is still pending or has been approved.

Beneficiaries with a Ukraine TPS-related Form I-765 that was still pending as of January 17, 2025, do not need to file the application again. If USCIS approves a pending TPS-related Form I-765, USCIS will issue the individual a new EAD that will be valid through October 19, 2026.

Can My TPS-Related EAD Be Automatically Extended?

Yes. There are two ways for your TPS-related EAD to be automatically extended. First, if you already have an EAD with a “Card Expires” date of April 19, 2025 or October 19, 2023, this Federal Register notice automatically extends it through April 19, 2026 without any further action on your part. You do not need to present this FRN or any other additional documentation other than your EAD to use this automatic extension.

Second, you may also be eligible for a longer automatic extension of up to 540 days from the “Card Expires” date on the EAD if you file your Form I-765 EAD renewal application during the re-registration period of January 17, 2025, through March 18, 2025(“Up to 540-Day Automatic EAD Extension”).²⁴ See the section “How can I receive an automatic extension of my current TPS EAD for up to 540 days from the “Card Expires” date on the EAD by filing an EAD renewal application (“Up to 540-Day Automatic EAD Extension”)? of this Federal Register notice for more information. Your EAD may be eligible for both types of extensions, but in no case will your EAD automatic extension be valid past October 19, 2026. If you take advantage of both types of EAD extensions, the automatic extension periods run concurrently.

²⁴ Under 8 CFR 274a.13(d), EADs with category A12 and C19 are eligible for an automatic extension of up to 540 days from the date on the face of the EAD if the bearer's Form I-765 application is properly filed under either the A12 or C19 category and during the re-registration period described in the applicable Federal Register notice.

Filing Information

USCIS offers the option to applicants for TPS under Ukraine's designation to file Form I-821 and related requests for EADs online or by mail. However, if you file Form I-912, Request for Fee Waiver or a written fee waiver request for any applications filed together with your Form I-821, you must submit your applications by mail. When filing a TPS application, you can also request an EAD by submitting a completed Form I-765 with your Form I-821. Under certain circumstances, you may also upload a completed Form I-765 with a fee or fee waiver request, in Portable Document Format (PDF) through your USCIS online account. More information about filing your Form I-765 and fee waiver request through a PDF upload is available at https://www.uscis.gov/newsroom/stakeholder-messages/uscis-launches-online-pdf-filing-option.

Online filing: Form I-821 and Form I-765 are available for concurrent filing online.²⁵ To file these forms online, you must first create a USCIS online account.²⁶

²⁵ Find information about online filing at “Forms Available to File Online,” https://www.uscis.gov/file-online/forms-available-to-file-online.

²⁶ https://myaccount.uscis.gov/users/sign_up.

PDF upload: Form I-765, if applicable, and Form I-912, if applicable, are available for PDF upload. To upload these documents, you must first create a USCIS online account.²⁷

²⁷ https://www.uscis.gov/newsroom/stakeholder-messages/uscis-launches-online-pdf-filing-option. Sign up to create a new USCIS online account at https://myaccount.uscis.gov/users/sign_up.

Mail filing: Mail your completed Form I-821; Form I-765, if applicable; Form I-912, if applicable; and supporting documentation to the proper address in Table 1—Mailing Addresses.

Table 1—Mailing Addresses
If you are applying for TPS under the designation for Ukraine and you live in: | Then mail your application to:
○ Alabama | USCIS Chicago Lockbox.
○ Alaska | U.S. Postal Service (USPS):
○ American Samoa ○ Arizona ○ Arkansas ○ Colorado ○ Connecticut ○ Delaware | U.S. Citizenship and Immigration Services, Attn: TPS Ukraine, P.O. Box 4464, Chicago, IL 60680-4464.
○ District of Columbia | FedEx, UPS, or DHL:
○ Florida ○ Georgia ○ Guam ○ Hawaii ○ Idaho ○ Illinois ○ Indiana ○ Iowa ○ Kansas ○ Kentucky ○ Louisiana ○ Maine ○ Maryland ○ Massachusetts ○ New York ○ Ohio | U.S. Citizenship and Immigration Services, Attn: TPS Ukraine (Box 4464), 131 S Dearborn St., 3rd Floor, Chicago, IL 60603-5517.
○ California | USCIS Phoenix Lockbox.
○ Michigan | U.S. Postal Service (USPS):
○ Minnesota ○ Mississippi ○ Missouri ○ Montana ○ Nebraska ○ Nevada | U.S. Citizenship and Immigration Services, Attn: TPS Ukraine, P.O. Box 24047, Phoenix, AZ 85074-4047.
○ New Hampshire | FedEx, UPS, or DHL:
○ New Jersey ○ New Mexico ○ North Carolina ○ North Dakota ○ Northern Mariana Islands ○ Oklahoma ○ Oregon ○ Pennsylvania ○ Puerto Rico ○ Rhode Island ○ South Carolina ○ South Dakota ○ Tennessee ○ Texas ○ Utah ○ Vermont ○ Virgin Islands ○ Virginia ○ Washington ○ West Virginia ○ Wisconsin ○ Wyoming | U.S. Citizenship and Immigration Services, Attn: TPS Ukraine (Box 24047), 2108 E Elliot Rd., Tempe, AZ 85284-1806.

If you were granted TPS by an immigration judge (IJ) or the Board of Immigration Appeals (BIA) and you want to request an EAD, you may submit Form I-765 one of three ways: online, mail your Form I-765 to the appropriate address in Table 1, or upload a completed PDF through your USCIS online account. If you file online, you will be prompted to include the fee. If you file by mail, you must include the fee or fee waiver request. If you file by PDF upload, you must include the fee or a fee waiver request. When you request an EAD based on an IJ or BIA grant of TPS, include with your application a copy of the order from the IJ or BIA granting you TPS. This will help us verify your grant of TPS and process your application.

Supporting Documents

The filing instructions for Form I-821 list all the documents you need to re-register for TPS. You may also find information on the acceptable documentation and other requirements for re-registering for TPS on the USCIS website at https://www.uscis.gov/tps under “Ukraine.”

Travel

TPS beneficiaries and TPS applicants with pending Form I-821 applications may also apply for travel authorization, which USCIS may grant as a matter of discretion. You must file for travel authorization if you wish to travel outside of the United States. If USCIS grants travel authorization, it gives you permission to leave the United States and to return to a U.S. port of entry to request re-entry during a specific period. To request travel authorization, you must file Form I-131, available at https://www.uscis.gov/i-131. You may file Form I-131 together with your Form I-821 or separately. When filing Form I-131, a TPS beneficiary must:

• Select Item Number 4 in Part 1 on the Form I-131; and

• Submit the fee for Form I-131, or request a fee waiver, which you may submit on Form I-912.

When filing Form I-131, a TPS applicant with a pending initial Form I-821 must:

• Select Item Number 5C in Part 1 on the Form I-131; and

• Submit the fee for Form I-131, or request a fee waiver, which you may submit on Form I-912.

If you are filing Form I-131 together with Form I-821, send your forms to the address listed in Table 1. If you are filing Form I-131 separately based on a pending or approved Form I-821, send your form to the address listed in Table 2 and include a copy of Form I-797, Notice of Action, or Form I-797C, Notice of Action, indicating either approval or receipt of Form I-821. Form I-131 may not be filed by PDF upload.

Table 2—Mailing Addresses
If you are . . . | Mail to . . .
Filing Form I-131 together with Form I-821 | The address provided in Table 1.
Filing Form I-131 based on a pending or approved Form I-821, and you are using the U.S. Postal Service (USPS): You must include a copy of the Notice of Action (Form I-797C or I-797) showing USCIS received or approved your Form I-821 | USCIS, Attn: I-131 TPS, P.O. Box 660167, Dallas, TX 75266-0867.
Filing Form I-131 based on a pending or approved Form I-821, and you are using FedEx, UPS, or DHL: You must include a copy of the Notice of Action (Form I-797C or I-797) showing USCIS received or approved your Form I-821. | USCIS, Attn: I-131 TPS, 2501 S. State Hwy. 121 Business, Ste. 400, Lewisville, TX 75067.

Biometric Services Fee for TPS:

Biometrics (such as fingerprints) are required for all applicants, in addition to a biometric services fee. As previously stated, if you cannot pay the biometric services fee, you may request a fee waiver, which you may submit on Form I-912. For more information on the application forms and fees for TPS, please visit the USCIS TPS web page at https://www.uscis.gov/tps. USCIS may require you to visit an Application Support Center to have your biometrics collected. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If you still need assistance, you may ask a question about your case online at https://egov.uscis.gov/e-request/Intro.do or call the USCIS Contact Center at 800-375-5283 (TTY 800-767-1833).

Am I eligible to receive an automatic extension of my current EAD through April 19, 2026, through this Federal Register notice (“FRN-Based Automatic EAD Extension”)?

Yes. Regardless of your country of birth, if you currently have a Ukraine TPS-based EAD with the notation A12 or C19 under Category and a “Card Expires” date of April 19, 2025, or October 19, 2023, this Federal Register notice automatically extends your EAD through April 19, 2026, without any further action on your part. Although this Federal Register notice automatically extends your EAD through April 19, 2026, you still must timely re-register for TPS by filing Form I-821 in accordance with the procedures described in this Federal Register notice to maintain your TPS. You also should file your Form I-765 timely to avoid possible gaps in your employment authorization documentation.

How can I receive an automatic extension of my current TPS EAD for up to 540 days from the “Card Expires” date on the EAD by filing an EAD renewal application (“Up to 540-Day Automatic EAD Extension”)?

You qualify for this other type of automatic EAD extension if:

• You properly file your renewal Form I-765 during the TPS re-registration period which is January 17, 2025, through March 18, 2025; and

• Your Form I-765 EAD renewal application is under category A12 or C19.

As long as the categories listed on your EAD and Form I-797C receipt notice are A12 or C19, they don't need to be the same. (For example, your EAD may still be automatically extended for up to 540 days if your facially expired or expiring EAD says C19 and your renewal application says A12.)

For purposes of your employer verifying your employment eligibility on the Form I-9, if you choose to complete your Form I-9 using the “Up to 540-Day Automatic EAD Extension,” the automatic extension period starts from the “Card Expires” date on your EAD. You may use the EAD Automatic Extension Calculator available at https://www.uscis.gov/eadautoextend to determine the automatically extended expiration date.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present one selection from List A (which provides evidence of both identity and employment authorization) or one selection from List B (which provides evidence of your identity) together with one selection from List C (which provides evidence of employment authorization), or you may present an acceptable receipt as described in these lists. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information.

A. FRN-based Automatic EAD Extension. If your EAD states A12 or C19 under Category and has a “Card Expires” date of April 19, 2025 or October 19, 2023, this Federal Register notice extends it automatically, and you may choose to present your EAD to your employer as proof of identity and employment eligibility for Form I-9 through April 19, 2026. Your country of birth noted on the EAD does not have to reflect the TPS-designated country of Ukraine for you to be eligible for this extension. You may, but are not required to, show this Federal Register notice to your employer to explain what to do for Form I-9 and to show that USCIS has automatically extended your EAD through April 19, 2026.

B. Up to 540-day Automatic EAD Extension. To show that you qualify for this extension, present:

1. Your EAD with a Category Code of A12 or C19 and

2. Your Form I-797C, Notice of Action, for your Form I-765 renewal EAD application showing a Category Code of A12 or C19. The “Received Date” on this notice must fall within the re-registration period described in this FRN, which is from January 17, 2025, through March 18, 2025.

The A12 or C19 categories on your Form I-797C, Notice of Action, and facially expired or expiring A12 or C19 EAD do not need to match, as long as each lists A12 or C19 as the category. (For example, your EAD may still be automatically extended for up to 540 days if your EAD says C19 and your renewal application says A12.)

What documentation may I present to my employer for Form I-9 if I am already employed but my current TPS-related EAD is set to expire?

Your employer is required by law to ask you about your continued employment authorization. Your employer may need to reexamine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information.

A. FRN-based Automatic EAD Extension. If you choose to use the automatic EAD extension based on this Federal Register notice, you may show this Federal Register notice to your employer to explain what to do for Form I-9 and to show that USCIS has automatically extended your EAD through April 19, 2026; however, you are not required to do so. The last day of this automatic EAD extension is April 19, 2026. Before you start work on April 20, 2026, your employer is required by law to reverify your employment authorization on Form I-9.

B. Up to 540-day Automatic EAD Extension. If you filed your EAD renewal application during the re-registration period indicated in this Federal Register notice and choose to have your EAD automatically extended for up to 540 days from the “Card Expires” date on your EAD, but no later than October 19, 2026, present:

1. Your facially expired or expiring EAD with a Category Code of A12 or C19, and

2. The Form I-797C, Notice of Action, showing a Category Code of A12 or C19. The “Received Date” on this notice must fall within the re-registration period described in this FRN, which is from January 17, 2025, through March 18, 2025.

By the end date of your automatic EAD extension, you must present any document from List A or any document from List C on Form I-9 Lists of Acceptable Documents, or an acceptable List A or List C receipt described in these lists to reverify employment authorization.

Your employer may not specify which List A or List C document you must present and cannot reject an acceptable receipt.

If I have an EAD based on another immigration status, can I obtain a new TPS-based EAD?

Yes, if you are eligible for TPS, you can obtain a new TPS-based EAD, even if you already have an EAD or employment authorization based on another immigration status. If you want to obtain a new TPS-based EAD valid through October 19, 2026, you must file Form I-765 and pay the associated fee (unless USCIS grants your fee waiver request).

Can my employer require that I provide any other documentation to complete Form I-9, such as evidence of my status, proof of my Ukrainian citizenship, or a Form I-797 showing that I registered for TPS?

No. When completing Form I-9, employers must accept any documentation you choose to present from the Form I-9 Lists of Acceptable Documents that reasonably appears to be genuine and that relates to you, or an acceptable List A, List B, or List C receipt. Employers may not request other documentation, such as proof of Ukrainian citizenship or proof of registration for TPS, when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

A. FRN-based Automatic EAD Extension. When using this this type of automatically extended EAD to complete Form I-9 for a new job before April 20, 2026:

1. For Section 1, you should:

a. Check “A noncitizen authorized to work until” and enter October 19, 2026, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A12 or C19 and has a “Card Expires” date of April 19, 2025, or October 19, 2023;

b. Write in the document title;

c. Enter the issuing authority;

d. Provide the document number; and

e. Write April 19, 2026, as the expiration date.

Before the start of work on April 20, 2026, employers must reverify the employee's employment authorization on Form I-9.

B. Up to 540-day Automatic EAD Extension. If you filed your EAD renewal application during the re-registration period indicated in this Federal Register notice and choose to have your EAD automatically extended for up to 540 days from the “Card Expires” date on your EAD:

1. For Section 1, you should:

a. Check “A noncitizen authorized to work until;” and

b. Enter your USCIS number or A-Number where indicated. (Your EAD or other document from DHS will have your USCIS number or A-Number printed on it; the USCIS number is the same as your A-Number without the A prefix.)

c. Enter October 19, 2026, as the expiration date.

2. In Section 2, in the List A column, the employer must:

a. Determine whether the EAD is automatically extended by ensuring it is in category A12 or C19 and that your Form I-797C indicates that you filed your Form I-765 renewal EAD application under Category A12 or C19 and during the re-registration period indicated in this Federal Register notice;

b. Write in the document title;

c. Enter the issuing authority;

d. Provide the document number; and

e. In the Expiration Date field, enter the date 540 days from the “Card Expires” date on the EAD. This date may not be later than October 19, 2026. Use the Automatic Extension Eligibility Calculator at https://www.uscis.gov/eadautoextend to calculate your new EAD expiration date.

f. Employers should also enter “EAD EXT” in the Additional Information field.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A12 or C19.

A. FRN-based automatic EAD Extension. If you are relying on an FRN-based automatic EAD extension, your employer should examine your EAD to see if it has a “Card Expires” date of April 19, 2025 or October 19, 2023. Your employer may not rely on the country of birth listed on the card to determine whether you are eligible for this extension.

If your employer determines that USCIS has automatically extended your EAD through this Federal Register notice, they should update Section 2 of your previously completed Form I-9 as follows:

1. Write EAD EXT and April 19, 2026, as the last day of the automatic extension in the Additional Information field; and

2. Initial and date the correction.

Note: This is not considered a reverification. Employers do not reverify the employee until either the automatic extension has ended, or the employee presents a new document to show continued employment authorization, whichever is sooner. By April 20, 2026, when the employee's automatically extended EAD expires, employers are required by law to reverify the employee's employment authorization on Form I-9.

B. Up to 540-day Automatic EAD Extension. If you are relying on an up to 540-day automatic EAD extension, your employer must also examine your Form I-797C indicating receipt of your Form I-765 renewal EAD application to determine if it was filed under Category A12 or C19 and during the re-registration period indicated in this Federal Register notice. Your employer will need to update Form I-9 by entering the appropriate automatic EAD extension expiration date and “EAD EXT” in the Section 2 Additional Information field. The new up to 540-day EAD extension expiration date starts from the “Card Expires” date on the face of your current EAD, not to exceed the TPS designation end date indicated in this Federal Register notice. Use the Automatic Extension Eligibility Calculator at https://www.uscis.gov/eadautoextend to calculate your new EAD expiration date.

Note: This information also applies if you initially presented a TPS-related EAD that was automatically extended by the FRN-Based Automatic EAD Extension and later obtained an up to 540-day automatic EAD extension.

If I am an employer enrolled in E-Verify, how do I verify a new employee whose EAD has been automatically extended?

Employers may create a case in E-Verify for a new employee by entering the EAD document number and expiration date from Section 2 of Form I-9 into the corresponding fields in E-Verify.

If I am an employer enrolled in E-Verify, what do I do when I receive a “Work Authorization Documents Expiring” alert for an automatically extended EAD?

If you have an employee who provided a TPS-related EAD when they first started working for you, you will receive a “Work Authorization Documents Expiring” case alert when the auto-extension period for this EAD is about to expire. You must reverify your employee's employment authorization on Form I-9 by the date their automatic EAD extension ends. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English, Spanish, and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls and emails in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in these lists. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Employment-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an EAD that has been automatically extended by this Federal Register notice, you do not need to show any other document, such as a Form I-797C, Notice of Action, reflecting receipt of a Form I-765 EAD renewal application or this Federal Register notice, to prove that you qualify for this extension. If you are presenting an EAD extended by an up to 540-day extension, you will need to show your Form I-797C, Notice of Action, reflecting receipt of your Form I-765. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A12 or C19, even if your country of birth noted on the EAD does not reflect the TPS-designated country of Ukraine;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept.

Some state and local government agencies use SAVE, https://www.uscis.gov/save, to confirm the current immigration status of applicants for public benefits. While SAVE can verify that an individual has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save/for-benefit-applicants, has detailed information on how to correct or update your immigration record, make an appointment, or submit a written request to correct records.

[FR Doc. 2025-00771 Filed 1-13-25; 8:45 am]

BILLING CODE 9111-97-P